DEPARTMENT OF THE INTERIOR

National Park Service

[NPS-WASO-NAGPRA-NPS0031686; PPWOCRADN0-PCU00RP14.R50000]

Notice of Inventory Completion: Temple University, Philadelphia, PA

AGENCY: National Park Service, Interior.

ACTION: Notice.

SUMMARY: The Temple University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Temple University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Temple University at the address in this notice by May 17, 2021.

ADDRESSES: Leslie Reeder-Myers, Temple University, 1115 Polett Walk, Gladfelter Hall Room 204, Philadelphia, PA 19122, telephone (215) 204-1418, email leslie.reeder-myers@temple.edu.

SUPPLEMENTARY INFORMATION: Notice is here given in accordance with the Native American Graves Protection and Repatriation Act (NAGPRA), 25 U.S.C. 3003, of the completion of an inventory of human remains and associated funerary objects under the control of Temple University, Philadelphia, PA. The human remains and associated funerary objects were removed from the Abbott Farm National Historical Landmark, Mercer County, NJ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Temple University professional staff in consultation with representatives of the Delaware Nation, Oklahoma; Delaware Tribe of Indians; and the Stockbridge-Munsee Community, Wisconsin (hereafter referred to as “The Tribes”).

History and Description of the Remains

Between 1963 and 1964, human remains representing, at minimum, eight individuals were removed from present-day Abbott Farm National Historical District (AFNHD) in Mercer County, NJ, by avocational archeologist Andrew Stanzeski. Stanzeski's excavations were part of a larger project led by Janet Pollack near the Watson House, which was located on Rowan Farm, now part of the AFNHD. Stanzeski gave these burials and associated funerary objects to the Temple Anthropology Laboratory and Museum at an unknown date. Eight sets of human remains were recovered from five separate burials. The human remains belong to three adult males, two adult females, one child less than 39 months of age, and one child approximately 5 years of age, and one individual of unknown age and sex. No known individuals were identified. The nine associated funerary objects are: Two lots of faunal remains, one lot of worked stone flakes, two lots of incised coarse earthenware, three worked stones (two black, one red), and one individual incised earthenware sherd.

The AFNHD is located on the Delaware River flood basin and terrace along Watson's Creek, about 3 miles south of Trenton, in Hamilton Township, Mercer County, NJ. The site was periodically occupied from the Archaic period to the present, but the assemblage of human skeletal remains at Temple University dates to the Late Woodland period (A.D. 900-1600). According to the original excavation notes, the remains of the eight individuals started to appear around 38-46 centimeters below the surface, beneath the second humus layer.

Based on geographic, ethnographic, and historic information, the AFNHD lies within the territory of the Delaware Tribes. The archeological evidence provided by the site is consistent with the use of the area by the Delaware Tribes and demonstrates cultural continuity throughout the Woodland period. In addition, linguistic, folkloric, and oral traditional information show a relationship of shared group identity between the Delaware Tribes and the earlier Woodland Period group, as well as established kinship ties between the members of the Delaware Tribes and the 17th/18th century Delaware residents of the Abbott Farm vicinity.

Determinations Made by Temple University

Officials of Temple University have determined that:

• Pursuant to 25 U.S.C. 3001(9), the human remains described in this notice represent the physical remains of eight individuals of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Leslie Reeder-Myers, Temple University, 1115 Polett Walk, Gladfelter Hall Room 204, Philadelphia, PA 19122, telephone (215) 204-1418, email leslie.reeder-myers@temple.edu, by May 17, 2021. After that date, if no additional requestors have come forward, transfer of control of the human remains and associated funerary objects to The Tribes may proceed.

Temple University is responsible for notifying The Tribes that this notice has been published.

Dated: April 6, 2021.
Melanie O'Brien,
Manager, National NAGPRA Program.

[FR Doc. 2021-07700 Filed 4-14-21; 8:45 am]

BILLING CODE 4312-52-P